DEPARTMENT OF THE INTERIOR

National Park Service

[NPS-WASO-NAGPRA-NPS0039572; PPWOCRADN0-PCU00RP14.R50000]

Notice of Intended Disposition: U.S. Department of the Interior, National Park Service, Kobuk Valley National Park, Kotzebue, AK

AGENCY: National Park Service, Interior.

ACTION: Notice.

SUMMARY: In accordance with the Native American Graves Protection and Repatriation Act (NAGPRA), the U.S. Department of the Interior, National Park Service, Kobuk Valley National Park (KOVA) intends to carry out the disposition of human remains removed from Federal or Tribal lands to from Federal or Tribal lands to the lineal descendants, Indian Tribe, or Native Hawaiian organization with priority for disposition in this notice.

DATES: Disposition of the human remains in this notice may occur on or after April 18, 2025. If no claim for disposition is received by March 19, 2026, the human remains in this notice will become unclaimed human remains.

ADDRESSES: Siikauraq Whiting Superintendent, Kobuk Valley National Park, P.O. Box 1029, Kotzebue, AK 99752, telephone (907) 385-7036, email siikauraq_whiting@nps.gov.

SUPPLEMENTARY INFORMATION: This notice is published as part of the National Park Service's administrative responsibilities under NAGPRA. The determinations in this notice are the sole responsibility of the Superintendent, KOVA, and additional information on the human remains in this notice, including the results of consultation, can be found in the related records.

Abstract of Information Available

Based on the information available, human remains representing at least two individuals have been reasonably identified. Repatriations associated with the intended exhumation of human remains at the Igliqtiqsuiġvigruaq site (XBM-00047) occurred in 2014. An additional 11 fragments of human remains were identified in 2023 at the same site located along the Kobuk River in Kobuk Valley National Park, Northwest Arctic Borough, AK. The human remains in this notice are associated with human remains that were included in a Notice of Intended Disposition published in the Anchorage Daily News on August 6th and 13th, 2013; in the Arctic Sounder on August 15th, 2013 (pg 12); and in the Arctic Sounder on August 22nd, 2013 (pg 13). All of the human remains are stored at the Alaska Regional Curatorial Center (ARCC) at the NPS Regional Office in Anchorage, AK.

Determinations

KOVA has determined that:

• The human remains described in this notice represent the physical remains of two individuals of Native American ancestry.

• The Native Village of Kiana has priority for disposition of the human remains described in this notice.

Claims for Disposition

Written claims for disposition of the human remains in this notice must be sent to the appropriate official identified in this notice under ADDRESSES. If no claim for disposition is received by March 19, 2026, the human remains in this notice will become unclaimed human remains. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains in this notice may occur on or after April 18, 2025. If competing claims for disposition are received, KOVA must determine the most appropriate claimant prior to disposition. Requests for joint disposition of the human remains are considered a single request and not competing requests. KOVA is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 19, 2025.
Melanie O'Brien,
Manager, National NAGPRA Program.

[FR Doc. 2025-04614 Filed 3-18-25; 8:45 am]

BILLING CODE 4312-52-P